DEPARTMENT OF COMMERCE

Foreign-Trade Zones Board

Docket 34-2008

Foreign-Trade Zone 222 - Montgomery, AL, Application for Expansion of Manufacturing Authority, Subzone 222A - Hyundai Motor Manufacturing Alabama, LLC (Motor Vehicles and Engines)

An application has been submitted to the Foreign-Trade Zones Board (the Board) by the Montgomery Area Chamber of Commerce, grantee of FTZ 222, on behalf of Hyundai Motor Manufacturing Alabama, LLC (HMMA), operator of Subzone 222A at the HMMA motor vehicle manufacturing plant in Montgomery, Alabama, requesting an expansion of the scope of FTZ manufacturing authority to include new manufacturing capacity under FTZ procedures. The application was submitted pursuant to the provisions of the Foreign-Trade Zones Act, as amended (19 U.S.C. 81a-81u), and Section 400.28(a)(2) of the Board's regulations (15 CFR Part 400). It was formally filed on May 21, 2008.

Subzone 222A was approved in 2003 for the manufacture of up to 250,000 light-duty passenger vehicles annually at the HMMA plant (3,300 employees/1,750 acres/2.1 million sq.ft.) in Montgomery (Montgomery County), Alabama (Board Order 1278, 68 FR 35622, 6-16-2003).

The applicant currently requests that the scope of FTZ manufacturing authority be extended to include an additional 350,000 square feet of production area to accommodate new engine production capacity (an additional 120,000 engines annually), which will be added within the existing boundaries of Subzone 222A. The additional engine output will be shipped to the Kia Motors Manufacturing Georgia, Inc. (KMMG), assembly plant in West Point, Georgia.

Foreign-origin components that are used in engine production (representing approximately 31% of finished engine value) include: oils, self-adhesive plastic/polyurethane sheets/foil/film/labels, pumps, rubber tubes/hoses, parts of engines, filters, paint, gaskets, fasteners, bearings, belts, locks, half shafts, parts of transmissions, electrical components, wire and cable, and measuring instruments and related parts (duty rate range: free - 8.5%).

Expanded FTZ procedures would continue to exempt HMMA from customs duty payments on the foreign components used in production for export. On its shipments transferred in-bond to the KMMG facility (located within FTZ 26), no duties would be paid on the foreign components within the engines until KMMG's finished vehicles are subsequently entered for consumption, at which time the finished automobile duty rate (2.5%) could be applied to the foreign inputs noted above. The application indicates that the savings from FTZ procedures helps to improve the HMMA plant's international competitiveness.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is August 1, 2008. Rebuttal comments in response to material submitted during the foregoing period may be submitted during the subsequent 15-day period to August 18, 2008.

A copy of the application will be available for public inspection at the Office of the Foreign-Trade Zones Board's Executive Secretary at the address listed above. For further information, contact Pierre Duy, examiner, at: pierre_duy@ita.doc.gov, or (202) 482-1378.

Dated: May 21, 2008.
Pierre V. Duy,
Acting Executive Secretary.

[FR Doc. E8-12255 Filed 5-30-08; 8:45 am]

BILLING CODE 3510-DS-S